DEPARTMENT OF AGRICULTURE

U.S. Codex Office

Codex Alimentarius Commission: Meeting of the Codex Alimentarius Commission

AGENCY: U.S. Codex Office, USDA.

ACTION: Notice of public meeting and request for comments.

SUMMARY: The U.S Codex Office is sponsoring a public meeting on June 21, 2019. The objective of the public meeting is to provide information and receive public comments on agenda items and draft United States (U.S.) positions to be discussed at the 42nd Session of the of the Codex Alimentarius Commission (CAC), in Geneva, Switzerland, on July 8-12, 2019. The U.S. Manager for Codex Alimentarius and the Under Secretary for Trade and Foreign Agricultural Affairs recognize the importance of providing interested parties the opportunity to obtain background information on the 42nd Session of the CAC and to address items on the agenda.

DATES: The public meeting is scheduled for June 21, 2019, from 1:00-4:00 p.m. EDT.

ADDRESSES: The public meeting will take place at the United States Department of Agriculture (USDA), Jamie L. Whitten Building, 1400 Independence Avenue SW, Room 107-A, Washington, DC 20250. Documents related to the 42nd Session of the CAC will be accessible via the internet at the following address: http://www.fao.org/fao-who-codexalimentarius/meetings/en/. Mary Frances Lowe, U.S. Delegate to the 42nd Session of the CAC, invites U.S. interested parties to submit their comments electronically to the following email address: uscodex@osec.usda.gov.

Call-In-Number: If you wish to participate in the public meeting for the 42nd Session of the CAC by conference call, please use the call-in-number: 1-888-844-9904 and participant code 5126092#.

Registration: Attendees may register to attend the public meeting by emailing uscodex@osec.usda.gov by June 18, 2019. Early registration is encouraged because it will expedite entry into the building. The meeting will take place in a Federal building. Attendees should bring photo identification and plan for adequate time to pass through the security screening systems. Attendees who are not able to attend the meeting in person, but who wish to participate, may do so by phone, as discussed above.

For further information about the 42nd Session of the CAC, contact U.S. Codex Office, 1400 Independence Avenue SW, Room 4861, South Agriculture Building, Washington, DC 20250, Telephone:(202) 205-7760, Fax: (202) 720-3157, Email: uscodex@osec.usda.gov.

For further information about the public meeting Contact: U.S. Codex Office, 1400 Independence Avenue SW, Room 4861, South Agriculture Building, Washington, DC 20250. Phone 202 720 7760, Fax: (202) 720-3157, Email: uscodex@osec.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in a Codex Alimentarius (food code) either as regional or worldwide standards, wherever this is practicable; and amends published standards, as appropriate, in the light of new developments.

Issues To Be Discussed at the Public Meeting

The following items on the Agenda for the 42nd Session of the CAC will be discussed during the public meeting:

• Report by the Chairperson on the 76th and 77th Sessions of the Executive Committee

• Amendments to the Procedural Manual

• Final Adoption of Codex Texts

• Adoption of Codex Texts at Step 5

• Revocation of Codex Texts

• Proposals for New Work

• Discontinuation of Work

• Amendments to the Codex Standards and Related Texts

• Matters arising from the Reports of the Commission, the Executive Committee, and the Subsidiary Bodies

• Codex Strategic Plan 2020-2025

• Codex Budgetary and Financial Matters: Progress Report 2018-2019

• Codex Budgetary and Financial Matters: Proposal 2020-2021

• FAO/WHO Scientific Support to Codex: Activities, Budgetary, and Financial Matters

• Matters Arising from FAO and WHO

• Report of the Side Event on FAO and WHO Capacity Development Activities

• Report of the Side Event on the Codex Trust Fund (CTF2)

• Election of the Chairperson and Vice-Chairpersons and Members of the Executive Committee Elected on Geographical Basis

• Designation of Countries Responsible for Appointing the Chairpersons of Codex Subsidiary Bodies

• Other Business

Each issue listed will be fully described in documents distributed, or to be distributed, by the Secretariat before the meeting. Members of the public may access or request copies of these documents (see ADDRESSES).

Public Meeting

At the June 21, 2019, public meeting, draft U.S. positions on the agenda items will be described and discussed, and attendees will have the opportunity to pose questions and offer comments. Written comments may be offered at the meeting or sent to the U.S. Delegate for the 42nd Session of the CAC (see ADDRESSES). Written comments should state that they relate to activities of the 42nd Session of the CAC.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington DC, on April 19, 2019.
Mary Lowe,
U.S. Manager for Codex Alimentarius.

[FR Doc. 2019-09276 Filed 5-6-19; 8:45 am]

BILLING CODE P